GENERAL SERVICES ADMINISTRATION

41 CFR Part 301-10

[FTR Amendment 112]

RIN 3090-AH77

Federal Travel Regulation; Privately Owned Vehicle Mileage Reimbursement

Correction

In rule document 03-136 beginning on page 493 in the issue of January 6, 2003, make the following correction:

§ 301-10.303 [Corrected]

On page 494, in §301-10.303, the table should read as follows:

For use of a | Your reimbursement is
Privately owned aircraft (e.g., helicopter, except an airplane) | Actual cost of operation (i.e., fuel, oil, plus the additional expenses listed in § 301-10.304).
Privately owned airplane | 95.5.¹
Privately owned automobile | 36.0.¹
Privately owned motorcycle | 27.5.¹
¹ Cents per mile.

[FR Doc. C3-136 Filed 1-15-03; 8:45 am]

BILLING CODE 1505-01-D

DEPARTMENT OF TRANSPORTATION

Federal Aviation Administration

14 CFR Part 36

[Docket No. FAA-2000-7587 Amdt No. 21-81, 36-24 & 91-275]

RIN 2120-AH03

Noise Certification Standards for Subsonic Jet Airplanes and Subsonic Transport Category Large Airplanes

Correction

In the issue of Friday, January 10, 2003, appearing on page 1512, in the correction of rule document 02-15835, there was an additional error. The correction appears as follows:

§ 36.6 [Corrected]

On page 1512, in the third column, in correction 1., in the first and second lines, “On the same page, in the same column, in the same section” should read, “On page 45212, in the first column, in § 36.6”.

[FR Doc. C2-15835 Filed 1-15-03; 8:45 am]

BILLING CODE 1505-01-D